ENVIRONMENTAL PROTECTION AGENCY

[FRL-9905-84-Region 4; CERCLA-04-2008-3774]

Georgia-Pacific Hardwood Site; Plymouth, Washington County, North Carolina; Notice of Amended Settlement

AGENCY: Environmental Protection Agency.

ACTION: Notice of amended settlement.

SUMMARY: Under 122(h) of the Comprehensive Environmental Response, Compensation and Liability Act (CERCLA), the United States Environmental Protection Agency has amended a settlement entered into with Castpa, LLC and W.C. Development, Inc. that addresses past costs concerning the Georgia-Pacific Hardwood Site located in Plymouth, Washington County, North Carolina. The Agency had previously entered into a settlement in 2008 addressing costs from a fund-lead Removal Action taken by EPA at the Site. The amendment to the settlement reduces the past cost owed to the Agency based on an ability to pay by the settling parties.

DATES: The Agency will consider public comments on the amended settlement until February 27, 2014. The Agency will consider all comments received and may modify or withdraw its consent to the amended settlement if comments received disclose facts or considerations which indicate that the amended settlement is inappropriate, improper, or inadequate.

ADDRESSES: Copies of the amended settlement are available from the Agency by contacting Ms. Paula V. Painter, Environmental Protection Specialist using the contact information provided in this notice. Comments may also be submitted by referencing the Site's name through one of the following methods:

• Internet: www.epa.gov/region4/superfund/programs/enforcement/enforcement.html

• U.S. Mail: U.S. Environmental Protection Agency, Superfund Division, Attn: Paula V. Painter, 61 Forsyth Street SW., Atlanta, Georgia 30303,

• Email: Painter.Paula@epa.gov.

FOR FURTHER INFORMATION CONTACT: Paula V. Painter at 404/562-8887

Dated: September 23, 2013.
Anita L. Davis,
Chief, Superfund Enforcement & Information Management Branch, Superfund Division.

[FR Doc. 2014-01585 Filed 1-27-14; 8:45 am]

BILLING CODE 6560-50-P